DEPARTMENT OF THE INTERIOR

Fish and Wildlife Service

[FWS-R2-ES-2013-0061; FXES11120200000F2-112-FF02ENEH00]

Draft Environmental Assessment and Proposed Renewal and Amendment to the Barton Springs Pool Habitat Conservation Plan, City of Austin, Travis County, Texas

AGENCY: Fish and Wildlife Service, Interior.

ACTION: Notice of availability and request for comments.

SUMMARY: We, the U.S. Fish and Wildlife Service (Service), announce the availability of the draft environmental assessment and the draft amendment to the Barton Springs Pool Habitat Conservation Plan (BSPHCP), under the National Environmental Policy Act of 1969. The City of Austin (applicant) has applied for a renewal of their existing Endangered Species Act incidental take permit, with a major amendment to add the Austin blind salamander, which is proposed as endangered, as an additional covered species; to increase the amount of take for Barton Springs salamander; and to extend the permit term for an additional 20 years.

DATES: Comments: We will accept comments received or postmarked on or before June 21, 2013. Comments submitted electronically using the Federal eRulemaking Portal (see ADDRESSES section, below) must be received by 11:59 p.m. Eastern Time on the closing date. Any comments that we receive after the closing date may not be considered in the final decisions on these actions.

ADDRESSES: Obtaining Documents:

• Internet: You may obtain copies of the all of documents on the Internet at http://www.regulations.gov (Docket Number FWS-R2-ES-2013-0061), or on the Service's Web site at http://www.fws.gov/southwest/es/AustinTexas/. The draft BSHCP is available on the City of Austin's ftp site at ftp://ftp.ci.austin.tx.us/wre/BSHCP/.

• U.S. Mail: A limited number of CD-ROM and printed copies of the draft EA and draft HCP are available, by request, from Mr. Adam Zerrenner, Austin Ecological Services Field Office, 10711 Burnet Road, Suite 200, Austin, TX 78758-4460; telephone 512-490-0057; fax 512-490-0974. Please note that your request is in reference to the BSPHCP (TE-839031).

The ITP application is available by mail from the Regional Director, U.S. Fish and Wildlife Service, P.O. Box 1306, Room 6034, Albuquerque, NM 87103.

• In-Person: Copies of the draft EA and draft BSHCP are also available for public inspection and review at the following locations, by appointment and written request only, 8 a.m. to 4:30 p.m.:

○ Department of the Interior, Natural Resources Library, 1849 C. St. NW., Washington, DC 20240.

○ U.S. Fish and Wildlife Service, 500 Gold Avenue SW., Room 6034, Albuquerque, NM 87102.

○ U.S. Fish and Wildlife Service, 10711 Burnet Road, Suite 200, Austin, TX 78758.

Comment submission: You may submit written comments by one of the following methods:

• Electronically: Go to the Federal eRulemaking Portal: http://www.regulations.gov. In the Search box, enter FWS-R2-ES-2013-0061, which is the docket number for this notice. Then, on the left side of the screen, under the Document Type heading, click on the Notices link to locate this document and submit a comment.

• By hard copy: Submit by U.S. mail or hand-delivery to: Public Comments Processing, Attn: FWS-R2-ES-2013-0061; Division of Policy and Directives Management; U.S. Fish and Wildlife Service; 4401 N. Fairfax Drive, MS 2042-PDM; Arlington, VA 22203.

We request that you send comments by only the methods described above. We will post all information received on http://www.regulations.gov. This generally means that we will post any personal information you provide us (see the Public Availability of Comments section below for more information).

FOR FURTHER INFORMATION CONTACT: Mr. Adam Zerrenner, Field Supervisor, by U.S. mail at U.S. Fish and Wildlife Service, Austin Ecological Services Field Office, 10711 Burnet Road, Suite 200, Austin, TX 78758-4460; or by telephone at 512-490-0057.

SUPPLEMENTARY INFORMATION: In accordance with the requirements of the National Environmental Policy Act of 1969 (NEPA) (42 U.S.C. 4321 et seq.), we advise the public that:

1. We have gathered the information necessary to determine impacts and formulate alternatives for the draft environmental assessment (EA) related to potential issuance of a renewed incidental take permit (ITP) with a major amendment to the applicant; and

2. The applicant has developed an amended draft habitat conservation plan (HCP) as part of the application for an ITP, which describes the measures the applicant has agreed to take to minimize and mitigate the effects of incidental take of covered species to the maximum extent practicable pursuant to section 10(a)(1)(B) of the Endangered Species Act of 1973 (Act), as amended (16 U.S.C. 1531 et seq.).

The applicant has applied for renewal of their ITP (TE-839031), with a major amendment that would be in effect for an additional 20 years if granted, and would authorize incidental take of two animal species (covered species), the Barton Springs salamander (Eurycea sosorum), which is listed as endangered, and the Austin Blind salamander (Eurycea waterlooensis), which is proposed for listing as endangered. As described in the draft HCP, the proposed incidental take would occur in four spring sites within Zilker Park, Travis County, Texas (permit area), and would result from activities associated with otherwise lawful activities, including the operations and maintenance of Barton Springs Pool (covered activities). The draft EA considers the direct, indirect, and cumulative effects of implementation of the draft HCP, including the measures that will be implemented to minimize and mitigate, to the maximum extent practicable, the impacts of the incidental take of the covered species.

Background

The applicant currently holds an ITP (TE-839031) for the Barton Springs salamander, which is covered by the BSPHCP. The existing permit expires October 2, 2013. Opportunity for public review of the original permit application, the existing EA, and the existing BSPHCP was provided in the Federal Register on March 16, 1998 (63 FR 12817), and July 15, 1998 (63 FR 38191). Activities included in the existing and draft BSPHCP include, but are not limited to, recreation, operations, maintenance, and restoration at Barton Springs Pool, Old Mill Spring, Eliza Spring, and Upper Barton Spring.

The applicant is seeking an ITP to add Austin Blind salamander as a covered species, to increase the amount of take authorized for Barton Springs salamander, and to extend the permit term an additional 20 years to 2033.

Proposed Action

The proposed action involves the renewal of the ITP with a major amendment by the Service for the covered activities in the permit area pursuant to section 10(a)(1)(B) of the Act. The ITP would cover “take” of the covered species associated with otherwise lawful activities, including recreation, operations, maintenance, and restoration at Barton Springs Pool, Old Mill Spring, Eliza Spring, and Upper Barton Spring. The requested term of the ITP is 20 years. To meet the requirements of a section 10(a)(1)(B) permit, the applicant has developed and proposes to implement their draft HCP, which describes the conservation measures the applicant has agreed to undertake to minimize and mitigate the impacts of the proposed incidental take of the covered species to the maximum extent practicable, and ensures that incidental take will not appreciably reduce the likelihood of the survival and recovery of these species in the wild. This alternative provides a comprehensive mitigation approach for unavoidable impacts to covered species.

Other Alternatives Considered

We considered one alternative to the proposed action.

1. No Action—No renewal of the ITP with a major amendment would be issued. Under this alternative, maintenance of the Barton Springs Pool would continue only until the current permit expires. When the current permit expires, the applicant would halt all maintenance activities that may cause take of listed species. As routine and post-flood cleaning is critical to maintaining Barton Springs Pool for recreational activities, use of the Pool would likely be restricted until a new incidental take permit could be issued. The applicant would continue to be subject to the take prohibitions of the Act. Where potential impacts could not be avoided, and where a Federal nexus exists, measures designed to minimize and mitigate for the impacts would be addressed through individual section 7 consultations with the Service.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Authority

We provide this notice under section 10(c) of the Act and its implementing regulations (50 CFR 17.22 and 17.32) and NEPA and its implementing regulations (40 CFR 1506.6).

Joy E. Nicholopoulos,
Acting Regional Director, Southwest Region, Albuquerque, New Mexico.

[FR Doc. 2013-09408 Filed 4-19-13; 8:45 am]

BILLING CODE 4310-55-P